DEPARTMENT OF ENERGY

Federal Energy Regulatory Commission

[Docket No. RP96-383-040]

Dominion Transmission, Inc.; Notice of Compliance Filing

April 2, 2002.

Take notice that on March 28, 2002, Dominion Transmission, Inc. (DTI) tendered for filing as part of its FERC Gas Tariff, Third Revised Volume No. 1, the following tariff sheet to comply with the Commission's Letter Order issued on March 15, 2002, in Docket No. RP96-383-038, with an effective date of November 1, 2001:

First Revised Sheet No. 1138

DTI states that the purpose of this filing is to comply with the condition imposed by the Letter Order. DTI requests an effective date of April 1, 2002, for its proposed tariff sheet.

DTI states that copies of its letter of transmittal and enclosures have been served upon DTI's customers, interested state commissions and on all persons on the official service list compiled by the Secretary of the Commission for this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See 18 CFR 385.2001(a)(1)(iii) and the instructions on the Commission's web site under the “e-Filing” link.

Magalie R. Salas,
Secretary.

[FR Doc. 02-8406 Filed 4-5-02; 8:45 am]

BILLING CODE 6717-01-P